DEPARTMENT OF TRANSPORTATION

Office of the Secretary

Aviation Proceedings, Agreements filed the week ending March 5, 2004

The following Agreements were filed with the Department of Transportation under the provisions of 49 U.S.C. 412 and 414. Answers may be filed within 21 days after the filing of the application.

Docket Number: OST-2004-17219.

Date Filed: March 1, 2004.

Parties: Members of the International Air Transport Association.

Subject:

PTC12 MEX-EUR 0064 dated 13 February 2004

North Atlantic Mexico-Europe Resolutions r1-15

Minutes—PTC12 MEX-EUR 0065 dated 26 February 2004

Tables—PTC12 MEX-EUR Fares 0027 dated 13 February 2004

Intended effective date: 01 May 04

Docket Number: OST-2004-17225.

Date Filed: March 2, 2004.

Parties: Members of the International Air Transport Association.

Subject:

PTC12 SATL-EUR 0119 dated 13 February 2004

TC12 South Atlantic-Europe Resolutions r1-r11

Minutes—PTC12 SATL-EUR 0120 dated 02 March 2004

TC12 South Atlantic-Europe Minutes

Tables—PTC12 SATL-EUR Fares 0037 dated 20 February 2004

TC12 South Atlantic-Europe Specified Fares Tables

Intended effective date: 01 April 2004

Docket Number: OST-2004-17226.

Date Filed: March 2, 2004.

Parties: Members of the International Air Transport Association.

Subject:

PTC12 MATL-EUR 0086 dated 13 February 2004

TC12 Mid Atlantic-Europe Resolutions r1-r15

Minutes—PTC12 MATL-EUR 0087 dated 02 March 2004

TC12 Mid Atlantic-Europe Minutes

Tables—PTC12 MATL-EUR Fares 0034 dated 20 February 2004

TC12 Mid Atlantic-Europe Specified Fares Tables

Intended effective date: 01 April 2004

Docket Number: OST-2004-17228.

Date Filed: March 2, 2004.

Parties: Members of the International Air Transport Association.

Subject:

Mail Vote 351

PTC12 NMS-ME 0206 dated 24 February 2004

TC12 Mid Atlantic-Middle East Resolutions r1-r9

Mail Vote 352

PTC12 NMS-ME 0207 dated 24 February 2004

TC12 South Atlantic-Middle East Resolutions r10-r17

Tables—PTC12 NMS-ME Fares 0118 dated 27 February 2004 (Mid Atlantic)

PTC12 NMS-ME Fares 0119 dated 27 February 2004 (South Atlantic)

Intended effective date: 01 April 2004

Docket Number: OST-2004-17250.

Date Filed: March 4, 2004.

Parties: Members of the International Air Transport Association.

Subject:

PTC12 NMS-ME 0205 dated 13 February 2004

TC12 North Atlantic-Middle East Resolutions

Mail Vote 355

PTC12 NMS-ME 0209 dated 02 March 2004

TC12 North Atlantic-Middle East Resolutions 064y r1-r25

Minutes—PTC12 NMS-ME 0208 dated 02 March 2004

Tables—PTC12 NMS-ME Fares 0117 dated 20 February 2004

Intended effective date: 01 April 2004

Docket Number: OST-2004-17253.

Date Filed: March 5, 2004.

Parties: Members of the International Air Transport Association.

Subject:

Mail Vote 356

PTC2 ME-AFR 0118 dated 05 March 2004

Resolution 002LL Special Amending Resolution between Middle East and Africa

Intended effective date: 01 April 2004

Docket Number: OST-2004-17254.

Date Filed: March 5, 2004.

Parties: Members of the International Air Transport Association.

Subject:

Mail Vote 357

PTC2 ME-AFR 0119 dated 05 March 2004

Resolutions between Middle East and Africa r1-r15

Intended effective date: 01 May 04

Docket Number: OST-2004-17255.

Date Filed: March 5, 2004.

Parties: Members of the International Air Transport Association.

Subject:

Mail Vote 358

PTC12 NMS-AFR 0180 dated 05 March 2004

TC12 South Atlantic-Africa Expedited Resolution 002jj r1

Intended effective date: 01 April 2004

Docket Number: OST-2004-17257.

Date Filed: March 5, 2004.

Parties: Members of the International Air Transport Association.

Subject:

Mail Vote 360

PTC12 NMS-AFR 0181 dated 05 March 2004

TC12 North Atlantic-Africa Resolutions except between USA and Reunion

Mail Vote 362

PTC12 NMS-AFR 0182 dated 05 March 2004

TC12 Mid Atlantic-Africa Resolutions

Mail Vote 361

PTC12 NMS-AFR 0183 dated 05 March 2004

TC12 North Atlantic-Africa Resolutions between USA and Reunion

Mail Vote 359

PTC12 NMS-AFR 0184 dated 05 March 2004

TC12 South Atlantic-Africa Resolutions r1-r44

Intended effective date: 01 May 2004

Andrea M. Jenkins,
Program Manager, Docket Operations, Federal Register Liaison.

[FR Doc. 04-6379 Filed 3-22-04; 8:45 am]

BILLING CODE 4910-62-P